Title 3—

The President

Proclamation 9229 of January 30, 2015

American Heart Month, 2015

By the President of the United States of America

A Proclamation

In the United States, cardiovascular disease—including heart disease, stroke, and high blood pressure—is responsible for one out of every three deaths. It is the number one killer of American women and men, and it is a leading cause of serious illness and disability. Across our Nation, we have lost devoted mothers and fathers, loved siblings, and cherished friends to this devastating epidemic. During American Heart Month, as we honor their memories, let us recommit to improving our heart health and continuing the fight against this deadly disease, for ourselves and our families.

Americans of all backgrounds can be at risk for heart disease and stroke—and nearly half of all adults have at least one major risk factor. However, individuals who are at high risk often do not know it, and data suggest that many people who experience sudden cardiac death do not act on early warning signs. That is why it is important to understand the risk factors for cardiovascular disease, such as obesity, inactivity, and diabetes, and to keep your blood pressure and cholesterol under control. By maintaining a healthy diet, getting regular exercise, and not smoking, you can control risk factors and help protect your heart. To learn more about cardiovascular health, talk with your healthcare provider and visit www.CDC.gov/heartdisease.

My Administration is committed to leading a new era of medicine—one that delivers the right treatment at the right time—and to ensuring Americans live longer, healthier, more productive lives. That is why earlier this year, I announced the Precision Medicine Initiative. This bold new effort will revolutionize how our Nation fights disease by investing in research that will enable clinicians to tailor treatments to individual patients. Additionally, in 2011 we launched Million Hearts, an unprecedented effort that is bringing together Federal Agencies, non-profit organizations, and private-sector partners to prevent 1 million heart attacks and strokes by 2017. We are working to enhance clinical care, bolster disease prevention programs, and empower individuals and communities to make healthy choices, demonstrating that improving the health system can save lives. More information on these important initiatives is available at www.NIH.gov/precisionmedicine and www.millionhearts.HHS.gov.

At the same time, First Lady Michelle Obama's Let's Move! initiative is encouraging young people to develop heart-healthy habits from an early age, and the Affordable Care Act is allowing more families to access quality, affordable health care. New protections under the law require most insurance plans to cover recommended preventive services without copays, and they prevent insurers from denying coverage due to a pre-existing condition like heart disease.

On Friday, February 6, Michelle and I invite all Americans to join in marking National Wear Red Day. By wearing red, we help raise awareness of cardiovascular disease and provide an important reminder that it is never too early to take action to protect our health. This month, let us reaffirm our resolve to fight this epidemic and continue our work to build a brighter future for our families.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2015 as American Heart Month, and I invite all Americans to participate in National Wear Red Day on February 6, 2015. I also invite the Governors of the States, the Commonwealth of Puerto Rico, officials of other areas subject to the jurisdiction of the United States, and the American people to join me in recognizing and reaffirming our commitment to fighting cardiovascular disease.

IN WITNESS WHEREOF, I have hereunto set my hand this thirtieth day of January, in the year of our Lord two thousand fifteen, and of the Independence of the United States of America the two hundred and thirty-ninth.

[FR Doc. 2015-02372

Filed 2-3-15; 11:15 am]

Billing code 3295-F5